DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Targeted Capacity Expansion Program for Substance Abuse Treatment and HIV/AIDS Services (TCE-HIV)—NEW

This data collection is to study the risk and protective factors related to substance use and HIV. The primary purpose of the Project is to conceptualize, plan, and implement a multi-site evaluation to investigate the process, outcome, and impact of substance abuse treatment and HIV/AIDS services provided by 49 SAMHSA grantees. The grantees' focus is on enhancing and expanding substance abuse treatment and/or outreach and pretreatment services in conjunction with HIV/AIDS services in African American, Hispanic/Latino, and other racial and ethnic minority communities. A multi-stage approach has been used to develop the appropriate theoretical framework, conceptual model, evaluation design and protocols, and data collection instrumentation. Process and outcome measures have been developed to fully capture community and contextual conditions, the scope of the TCE-HIV Grantee program implementation and activities, and client outcomes. A mixed-method approach (survey, semi-structured interviews, focus groups) will be used, for example, to examine collaborative community linkages established between grantees and other service providers (e.g., primary health care, medical services for PLWHA, substance abuse recovery support services), determine which program models and what type and amount of client exposure to services contribute to significant changes in substance abuse and HIV/AIDS risk behaviors of the targeted populations, and determine the impact of the TCE-HIV services on providers, clients, and communities.

The data collection for the project will be conducted bi-annually (i.e., every other year during the 4 year period) and the client outcome data collection is ongoing throughout the project and will be collected at baseline, discharge and 6 months post baseline for all treatment clients. The respondents are clinic-based social workers and counselors (e.g., social workers, licensed alcohol and drug counselors, licensed clinical professional counselors, licensed clinical social workers), clinic-based administrators and clinic-based clients.

The estimated annualized burden is summarized below.

Respondents | Estimated number of respondents | Estimated number of responses per respondent | Total number of responses | Average burden hours per response | Estimated total burden hours
Project Director/Program Manager (Semi-Structured Interviews) | 49 | 2 | 98 | 1.5 | 147.0
Grantee Staff (Semi-Structured Interviews) | 441 | 2 | 882 | 1.0 | 882.0
Community Collaborators (Semi-Structured Interviews) | 245 | 2 | 490 | 1.0 | 490.0
Treatment Client Focus Group | 441 | 2 | 882 | 1.0 | 882.0
Treatment Client Survey:
Baseline Data Collection | 2,050 | 1 | 2,050 |  | 861.0
Discharge Data Collection | 2,050 | 1 | 2,050 | 0.42 | 861.0
6-Month post Baseline Data Collection | 2,050 | 1 | 2,050 |  | 861.0
Treatment Client Dosage Form Discharge Data Collection | 2,050 | 1 | 2,050 | 0.25 | 512.5
Total | 3,226 |  | 10,552 |  | 5,496.5

Send comments to Summer King, SAMHSA Reports Clearance Officer, Room 7-1044, One Choke Cherry Road, Rockville, MD 20857 and e-mail her a copy at: summer.king@samhsa.hhs.gov. Written comments should be received within 60 days of this notice.

Dated: October 15, 2009.
Elaine Parry,
Director, Office of Program Services.

[FR Doc. E9-25530 Filed 10-22-09; 8:45 am]

BILLING CODE 4162-20-P